FEDERAL MARITIME COMMISSION

Ocean Transportation Intermediary License; Revocation

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR part 515, effective on the corresponding date shown below:

License Number: 2226F.

Name: Foley, III, William Cody dba Cody Forwarding Company.

Address: 7015 W. Tidwell Road, Suite G-11A, Houston, TX 77092.

Date Revoked: January 7, 2011.

Reason: Failed to maintain a valid bond.

License Number: 4032F.

Name: Logistics International, Inc.

Address: 10159 East 11th Street, Suite 120, Tulsa, OK 74128.

Date Revoked: January 2, 2011.

Reason: Failed to maintain a valid bond.

License Number: 004441F.

Name: Econoquality Freight Forwarders, Inc. dba EQ Line.

Address: 3201 NW 116th Street, Suite B, Miami, FL 33167.

Date Revoked: January 13, 2011.

Reason: Failed to maintain a valid bond.

License Number: 16795F.

Name: Starlink International, Inc.

Address: 6912 NW 51st Street, Miami, FL 33166.

Date Revoked: February 1, 2011.

Reason: Surrendered license voluntarily.

License Number: 18672N.

Name: Santa Lucia Cargo Inc.

Address: 2960 Kelp Lane, Apt. A, Oxnard, CA 93035-1672.

Date Revoked: January 3, 2011.

Reason: Failed to maintain a valid bond.

License Number: 020577F.

Name: Bosmak, Inc. dba Ocean Breeze Shipping.

Address: 2501 Harford Road, Baltimore, MD 21218.

Date Revoked: January 14, 2011.

Reason: Failed to maintain a valid bond.

License Number: 021275NF.

Name: SDS Global Logistics, Inc.

Address: 52-09 31st Place, Long Island City, NY 11101.

Date Revoked: January 16, 2011.

Reason: Failed to maintain valid bonds.

License Number: 021504F.

Name: Onward Shipping & Clearing Service Inc.

Address: 2305 Oak Lane, Suite 201B, Grand Prairie, TX 75051.

Date Revoked: January 10, 2011.

Reason: Surrendered license voluntarily.

License Number: 022656F.

Name: Clearsky Logistics Management, LLC.

Address: 887 West Marietta Street NW., Suite M-202, Atlanta, GA 30318.

Date Revoked: January 1, 2011.

Reason: Failed to maintain a valid bond.

Sandra L. Kusumoto,
Director, Bureau of Certification and Licensing.

[FR Doc. 2011-2844 Filed 2-8-11; 8:45 am]

BILLING CODE 6730-01-P